DEPARTMENT OF DEFENSE

Office of the Secretary

[Docket ID: DoD-2022-HA-0031]

Submission for OMB Review; Comment Request

AGENCY: Defense Health Agency (DHA), Department of Defense (DoD).

ACTION: 30-Day information collection notice.

SUMMARY: The Department of Defense has submitted to OMB for clearance the following/proposal for collection of information under the provisions of the Paperwork Reduction Act.

DATES: Consideration will be given to all comments received by August 8, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Childbirth and Breastfeeding Support Demonstration Survey; OMB Control Number 0720-CBDS.

Type of Request: New.

Number of Respondents: 16,000.

Responses per Respondent: 1.

Annual Responses: 16,000.

Average Burden per Response: 9 minutes.

Annual Burden Hours: 2,400 hours.

Needs and Uses: The Childbirth and Breastfeeding Support Demonstration Survey is necessary to solicit information from TRICARE beneficiaries who have given birth in the specified reporting period (initial survey for beneficiaries who gave birth in calendar year 2021, with follow on surveys sent to beneficiaries who give birth each calendar year quarter through the end of 2026, with the final survey sent in early 2027). Approximately 100,000 TRICARE beneficiaries give birth each year; about 60 percent of those births occur in private sector care and the other 40 percent in direct care (military treatment facilities). The survey is mandated by Section 746 of the William M. (Mac) Thornberry National Defense Authorization Act for Fiscal Year 2021 (Pub. L. 116-283, enacted on January 1, 2021). The end result of the survey will be data that can be used to develop mandatory Reports to Congress as well as recommendations for permanent implementation of some or all of the demonstration elements into the TRICARE Program.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: June 30, 2022.
Aaron T. Siegel,
Alternate OSD Federal Register Liaison Officer, Department of Defense.

[FR Doc. 2022-14522 Filed 7-7-22; 8:45 am]

BILLING CODE 5001-06-P